DEPARTMENT OF TRANSPORTATION

Federal Motor Carrier Safety Administration

[Docket No. FMCSA-2016-0180]

Commercial Driver's License (CDL) Testing; Application for Exemption: State of Minnesota

AGENCY: Federal Motor Carrier Safety Administration (FMCSA), DOT.

ACTION: Notice of application for exemption; request for comments.

SUMMARY: FMCSA announces that the State of Minnesota has applied for an exemption from regulations governing commercial driver's license (CDL) skills testing procedures and practices. Minnesota believes it can deliver CDL skills testing more efficiently in an alternative manner. It asserts that its method of delivering skills testing will maintain the testing standards enumerated by the regulations. FMCSA requests public comments on the request for exemption.

DATES: Comments must be received on or before August 31, 2016.

ADDRESSES: You may submit comments identified by Federal Docket Management System Number FMCSA-2016-0180 by any of the following methods:

• Federal eRulemaking Portal: www.regulations.gov. Follow the online instructions for submitting comments.

• Fax: 1-202-493-2251.

• Mail: Docket Management Facility, U.S. Department of Transportation, 1200 New Jersey Avenue SE., West Building, Ground Floor, Room W12-140, Washington, DC 20590-0001.

• Hand Delivery or Courier: West Building, Ground Floor, Room W12-140, 1200 New Jersey Avenue SE., between 9 a.m. and 5 p.m. E.T., Monday through Friday, except Federal holidays.

Instructions: All submissions must include the Agency name and docket number. For detailed instructions on submitting comments and additional information on the exemption process, see the Public Participation heading below. Note that all comments received will be posted without change to www.regulations.gov, including any personal information provided. Please see the Privacy Act heading below.

Docket: For access to the docket to read background documents or comments received, go to www.regulations.gov at any time and in the box labeled “SEARCH for” enter FMCSA-2016-0180 and click on the tab labeled “SEARCH.”

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can get electronic submission and retrieval help and guidelines under the “help” section of the Federal eRulemaking Portal Web site. If you want us to notify you that we received your comments, please include a self-addressed, stamped envelope or postcard, or print the acknowledgement page that appears after submitting comments online.

FOR FURTHER INFORMATION CONTACT: For information concerning this notice, contact Mr. Thomas L. Yager, Chief, FMCSA Driver and Carrier Operations Division; Office of Carrier, Driver and Vehicle Safety Standards; Telephone: 202-366-4325; Email: MCPSD@dot.gov. If you have questions on viewing or submitting material to the docket, contact Docket Services, telephone (202) 366-9826.

SUPPLEMENTARY INFORMATION:

Legal Basis

FMCSA has authority under 49 U.S.C. 31136(e) and 31315 to grant exemptions from the Federal Motor Carrier Safety Regulations (FMCSRs) (49 CFR part 350 et seq.). FMCSA must publish a notice of each exemption request in the Federal Register (49 CFR 381.315(a)). The Agency must provide the public an opportunity to inspect the information relevant to the application, including any safety analyses that have been conducted. The Agency must also provide an opportunity for public comment on the request.

The Agency reviews the safety analyses and the public comments, and determines whether granting the exemption would likely achieve a level of safety equivalent to, or greater than, the level that would be achieved by the current regulation (49 CFR 381.305). The decision of the Agency must be published in the Federal Register (49 CFR 381.315(b)) with the reason for the grant or denial, and, if granted, the specific person or class of persons receiving the exemption, and the regulatory provision or provisions from which exemption is granted. The notice must also specify the effective period of the exemption (up to 5 years), and explain the terms and conditions of the exemption. The exemption may be renewed (49 CFR 381.300(b)).

Background

The Commercial Motor Vehicle Safety Act of 1986 (CMVSA) was designed to improve highway safety by ensuring that truck and bus drivers are qualified to drive a commercial motor vehicle (CMV). It provided for removal of the driving privileges of unsafe or unqualified drivers. States issue commercial driver's licenses (CDLs) to CMV operators, but the CMVSA directed the Federal government to establish minimum requirements for the issuance of a CDL.

Subpart H of 49 CFR part 383 contains the principal requirements governing State testing of applicants for a CDL. Testing must be conducted in such a way as to determine if the applicant possesses the required knowledge and skills (§ 383.133(a)).

Request for Exemption

Minnesota seeks a partial exemption from § 383.133, “Test Methods.” Pursuant to that section, the CDL skills test must be conducted in three parts in the following order: pre-trip inspection, vehicle control skills, and on-road driving (§ 383.133(c)(6)). Minnesota asks that it be allowed to combine the second and third parts (vehicle control skills and on-road driving) and thus reduce the skills test to two parts. It also asks to be exempted from using the American Association of Motor Vehicle Administrators (AAMVA) 2005 Test Model Score Sheet. Finally, it asks to be exempted from the requirement that applicants must pass the pre-trip inspection portion of the exam before proceeding to the balance of the test.

Minnesota states that under its proposed approach, it can more efficiently manage the limited space of its test sites and conduct more CDL tests each day. It states that denial of its application for exemption will result in a less-rigorous CDL test and negatively affect motor carriers and drivers. A copy of Minnesota's application for exemption is in the docket listed at the beginning of this notice.

Request for Comments

In accordance with 49 U.S.C. 31315(b)(4) and 31136(e), FMCSA requests public comment on Minnesota's application for exemption. The Agency will consider all comments received by close of business on August 31, 2016.

Comments will be available for examination in the docket at the location listed under the ADDRESSES section of this notice.

Issued on: July 22, 2016.
Larry W. Minor,
Associate Administrator for Policy.

[FR Doc. 2016-18131 Filed 7-29-16; 8:45 am]

BILLING CODE 4910-EX-P